DEPARTMENT OF DEFENSE

Office of the Secretary

[Transmittal Nos. 14-48]

36(b)(1) Arms Sales Notification

AGENCY: Defense Security Cooperation Agency Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 14-48 with attached transmittal, and policy justification.

Dated: October 14, 2014.
Aaron Siegel,
Alternate OSD Federal Register Liaison Officer, Department of Defense.

BILLING CODE 5001-06-P

BILLING CODE 5001-06-C

Transmittal No. 14-48

Notice of Proposed Issuance of Letter of Offer Pursuant to Section 36(b)(1) of the Arms Export Control Act, as amended

(i) Prospective Purchaser: Brazil

(ii) Total Estimated Value:

Major Defense Equipment * | $ 0.1 million
Other | $149.9 million
TOTAL | $150.0 million
* as defined in Section 47(6) of the Arms Export Control Act.

(iii) Description and Quantity or Quantities of Articles or Services under Consideration for Purchase: three years of follow-on support for S-70B helicopters, which includes 1 Tactical Operational Flight Trainer, 5 AN/AVS-9 Night Vision Goggles, spare and repair parts, support equipment, tools and test equipment, personnel training and training equipment, publications and technical documentation, U.S. Government and contractor technical, engineering, and logistics support services, and other related elements of logistics and program support.

(iv) Military Department: Navy (SDE, Amd #5)

(v) Prior Related Cases, if any: FMS case SDE-$362M-10Jun08

(vi) Sales Commission, Fee, etc., Paid, Offered, or Agreed to be Paid: None.

(vii) Sensitivity of Technology Contained in the Defense Article or Defense Services Proposed to be Sold: None

(viii) Date Report Delivered to Congress: 7 Oct 14

POLICY JUSTIFICATION

Brazil—S-70B Helicopter Follow-On Support

The Government of Brazil has requested a possible sale for three years of follow-on support for S-70B helicopters, which includes 1 Tactical Operational Flight Trainer, 5 AN/AVS-9 Night Vision Goggles, spare and repair parts, support equipment, tools and test equipment, personnel training and training equipment, publications and technical documentation, U.S. Government and contractor technical, engineering, and logistics support services, and other related elements of logistics and program support. The estimated cost is $150 million.

The proposed sale will contribute to the foreign policy and national security of the United States by helping to improve the security of Brazil, which has been, and continues to be, an important force for regional stability and economic progress in South America.

The Government of Brazil will use the follow-on support to improve the level of training for its pilots and enhance the performance of its S-70 fleet. This support will increase Brazil's operational readiness.

The proposed sale of this equipment and support will not alter the basic military balance in the region.

There are no principal contractors associated with this proposed sale. There are no known offset agreements proposed in connection with this potential sale.

Implementation of this proposed sale will not require any additional U.S. Government or contractor representatives in Brazil. However, travel will be required on a temporary basis for program, technical, and management oversight and support requirements.

There will be no adverse impact on U.S. defense readiness as a result of this proposed sale.

[FR Doc. 2014-24711 Filed 10-16-14; 8:45 am]

BILLING CODE 5001-06-P